DEPARTMENT OF LABOR

Wage and Hour Division

29 CFR Part 552

RIN 1235-AA05

Application of the Fair Labor Standards Act to Domestic Service

AGENCY: Wage and Hour Division, Labor.

ACTION: Extension of comment period.

SUMMARY: This document extends the period for filing written comments until March 21, 2012 on the proposed revisions to the Application of the Fair Labor Standards Act to Domestic Service. On February 24, 2012, the Department published a document extending the comment period for the proposed revisions published on December 27, 2011 by an additional 14 days. This document further extends the comment period to March 21, 2012. The Department of Labor (Department) is taking this action in order to provide interested parties additional time to submit comments.

DATES: The agency must receive comments on or before March 21, 2012. The period for public comments, which was to close on March 12, 2012, will be extended to March 21, 2012.

ADDRESSES: You may submit comments, identified by RIN 1235-AA05, by either one of the following methods:

Electronic comments: through the Federal eRulemaking Portal: http://www.regulations.gov. Follow the instructions for submitting comments.

Mail: Mary Ziegler, Director, Division of Regulations, Legislation and Interpretation, Wage and Hour Division, U.S. Department of Labor, Room S-3502, 200 Constitution Avenue NW., Washington, DC 20210.

Instructions: Please submit one copy of your comments by only one method. All submissions received must include the agency name (Wage and Hour Division) and Regulatory Information Number identified above for this rulemaking (1235-AA05). All comments received will be posted without change to http://www.regulations.gov, including any personal information provided. Consequently, prior to including any individual's personal information such as Social Security Number, home address, telephone number, email addresses and medical data in a comment, the Department urges commenters carefully to consider that their submissions are a matter of public record and will be publicly accessible on the Internet. It is the commenter's responsibility to safeguard his or her information. Because we continue to experience delays in receiving mail in the Washington, DC area, commenters are strongly encouraged to transmit their comments electronically via the Federal eRulemaking Portal at http://www.regulations.gov or to submit them by mail early. For additional information on submitting comments and the rulemaking process, see the “Public Participation” heading of the SUPPLEMENTARY INFORMATION section of this document.

Docket: For access to the docket to read background documents or comments received, go to the Federal eRulemaking Portal at http://www.regulations.gov.

FOR FURTHER INFORMATION CONTACT: Mary Ziegler, Director, Division of Regulations, Legislation, and Interpretation, Wage and Hour Division, U.S. Department of Labor, Room S-3510, 200 Constitution Avenue NW., Washington, DC 20210; telephone: (202) 693-0406 (this is not a toll free number). Copies of this notice of proposed rulemaking may be obtained in alternative formats (Large Print, Braille, Audio Tape, or Disc), upon request, by calling (202) 693-0023. TTY/TDD callers may dial toll-free (877) 889-5627 to obtain information or request materials in alternative formats.

Questions of interpretation and/or enforcement of regulations issued by this agency or referenced in this document may be directed to the nearest Wage and Hour Division District Office. Locate the nearest office by calling the Wage and Hour Division's toll-free help line at (866) 4US-WAGE ((866) 487-9243) between 8 a.m. and 5 p.m. in your local time zone, or log onto the Wage and Hour Division's Web site for a nationwide listing of Wage and Hour District and Area Offices at: http://www.dol.gov/whd/america2.htm.

SUPPLEMENTARY INFORMATION:

I. Electronic Access and Filing Comments

Public Participation: This notice of proposed rulemaking is available through the Federal Register and the http://www.regulations.gov Web site. You may also access this document via the Department's Web site at http://www.dol.gov/federalregister. To comment electronically on federal rulemakings, go to the Federal eRulemaking Portal at http://www.regulations.gov, which will allow you to find, review, and submit comments on federal documents that are open for comment and published in the Federal Register. Please identify all comments submitted in electronic form by the RIN docket number (1235-AA05). Because of delays in receiving mail in the Washington, DC area, commenters should transmit their comments electronically via the Federal eRulemaking Portal at http://www.regulations.gov, or submit them by mail early to ensure timely receipt prior to the close of the comment period. Submit one copy of your comments by only one method.

II. Request for Comment

The Department is proposing to revise the Fair Labor Standards Act minimum wage, overtime and recordkeeping regulations pertaining to the exemptions for companionship services and live-in domestic services. The Department proposes to amend the regulations to revise the definitions of “domestic service employment” and “companionship services.” The Department also proposes to more specifically describe the type of activities and duties that may be considered “incidental” to the provision of companionship services. In addition, the Department proposes to amend the recordkeeping requirements for live-in domestic workers. Finally, the Department proposes to amend the regulation pertaining to employment by a third party of companions and live-in domestic workers. This change would continue to allow the individual, family, or household employing the worker's services to apply the companionship and live-in exemptions and would deny all third party employers the use of such exemptions.

On December 15, 2011, President Obama announced that the Department of Labor was proposing the rule changes. The Department posted a Notice of Proposed Rulemaking (NPRM), complete with background information, economic impact analyses and proposed regulatory text, on its Web site that day. The Department published the NPRM in the Federal Register on December 27, 2011 (76 FR 81190), requesting public comments on the proposed revisions to the regulations pertaining to the exemption for companionship services and live-in domestic services. Interested parties were requested to submit comments on or before February 27, 2012. On February 24, 2012, the Department published a document in the Federal Register extending the original comment period by 14 days to March 12, 2012 (77 FR 11021).

The Department has received requests to extend the period for filing public comments from members of Congress and various business organizations. Because of the interest that has been expressed in this matter, the Department has decided to provide an additional extension of the period for submitting public comment until March 21, 2012.

Dated: March 8, 2012.
Nancy J. Leppink,
Deputy Administrator, Wage and Hour Division.

[FR Doc. 2012-6136 Filed 3-9-12; 4:15 pm]

BILLING CODE 4510-27-P